ENVIRONMENTAL PROTECTION AGENCY

[EPA-HQ-OW-2022-0869; FRL-10393-01-OW]

Proposed Information Collection Request; Comment Request; Chrome Finishing Industry Data Collection

AGENCY: Environmental Protection Agency (EPA).

ACTION: Notice.

SUMMARY: The Environmental Protection Agency (EPA) is planning to submit an information collection request (ICR), “U.S. Environmental Protection Agency Chrome Finishing Industry Data Collection” (EPA ICR No. 2723.01, OMB Control No. 2040-NEW) to the Office of Management and Budget (OMB) for review and approval in accordance with the Paperwork Reduction Act (PRA). Before doing so, EPA is soliciting public comments on specific aspects of the proposed information collection as described below. This is a request for approval of a new collection. An agency may not conduct or sponsor, and a person is not required to respond to, a collection of information unless it displays a currently valid OMB control number.

DATES: Comments must be submitted on or before January 17, 2023.

ADDRESSES: Submit your comments, referencing Docket ID No. EPA-HQ-OW-2022-0869, online using www.regulations.gov (our preferred method), by email to OW-Docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI), or other information whose disclosure is restricted by statute.

FOR FURTHER INFORMATION CONTACT: Dr. Phillip Flanders, Engineering and Analysis Division, Office of Science and Technology, (4303T), Environmental Protection Agency, 1200 Pennsylvania Ave. NW, Washington, DC 20460; telephone number: 202-566-8323; email address: Flanders.Phillip@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA (44 U.S.C. 3501 et seq), EPA is soliciting comments and information to enable it to: (i) evaluate whether the proposed collection of information is necessary for the proper performance of the functions of the agency, including whether the information will have practical utility; (ii) evaluate the accuracy of the agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: Under the Clean Water Act (CWA), EPA develops effluent limitations guidelines (ELGs) to limit pollutants discharged from industrial point source categories. EPA initially promulgated the Metal Finishing ELGs in 1983 and amended the regulations in 1984 and 1986. The current regulation covers wastewater discharges from facilities performing various metal finishing operations. Metal finishing is the process of changing the surface of an object, for the purpose of improving its appearance and/or durability. Metal finishing is related to electroplating, which is the production of a thin surface coating of a metal upon another by electrodeposition. EPA first promulgated the Electroplating ELGs in 1974, with amendments in 1977, 1979, 1981, and 1983. Together, the Metal Finishing and Electroplating ELGs apply to thousands of facilities which perform one or more of the following operations and discharge process wastewater directly to surface waters or indirectly to surface waters through publicly owned treatment works (POTWs): electroplating, electroless plating, anodizing, coating (including phosphating, chromating, and coloring), chemical etching and milling, and printed circuit board manufacture.

As announced in the Preliminary Effluent Guidelines Program Plan 15, published in September 2021, EPA plans to conduct a rulemaking to address Per- and Polyfluoroalkyl Substances (PFAS) discharges from a subset of facilities in the Metal Finishing and Electroplating point source categories. Based on information and data collected during the Multi-Industry PFAS Study, EPA determined PFAS are used by some metal finishing and electroplating facilities to control hexavalent chromium emissions, a known human carcinogen and inhalation hazard. EPA determined facilities performing certain chromium operations (hereafter referred to as “chrome finishing facilities”), including chromium plating, chromium anodizing, chromic acid etching, and chromate conversion coating operations, are the predominant sources of PFAS discharges by the Metal Finishing and Electroplating point source categories.

Publicly available data on metal finishing and electroplating facilities, including whether they perform chromium finishing operations and potential use and discharge of PFAS, are limited. EPA reviewed information on metal finishing and electroplating facilities that potentially conduct one or more chromium finishing operations available in national EPA data sets, including the Chromium Electroplating and Anodizing National Emissions Standards for Hazardous Air Pollutants (NESHAP) codified at 40 CFR part 63 subpart N, 2017 National Emissions Inventory (NEI), Compliance and Emissions Data Reporting Interface (CEDRI), Environmental Compliance History Online (ECHO), and Integrated Compliance Information System (ICIS), as well as data collected from several state environmental agencies. However, none of these data sources define a complete population of chromium finishing facilities in the United States nor do they provide detailed information on specific facility operations (including use of hexavalent chromium or PFAS), generation and management of wastewater, or wastewater characteristics—factors essential to EPA's review and development of ELGs to address PFAS discharges. Therefore, a questionnaire and wastewater sampling program for the Metal Finishing and Electroplating point source categories are essential portions of the rulemaking process, necessary for EPA to determine if the current regulations remain appropriate and, if warranted, develop new regulations. If new regulations are deemed to be warranted, the questionnaire and sampling activities are essential for EPA to complete the detailed technical and economic analysis for the entire industry necessary for the rulemaking process. EPA has identified and compiled mailing addresses for approximately 1,815 potential chromium finishing facilities in the United States. All active metal finishing and electroplating facilities that conduct or have conducted one or more of the specified chromium finishing operations will be required to complete the questionnaire. The objectives of the questionnaire will be to confirm the population of facilities that engage or have engaged in chromium finishing operations, as well as gather facility-specific information and data relevant to generation and discharge of PFAS-containing wastewater by the industry.

Confidential Business Information (CBI) may be collected. In accordance with 40 CFR, part 2, subpart B, section 2.203, the survey informs respondents of their right to claim information as confidential. Each survey provides instructions for claiming confidentiality and informs respondents of the terms and rules governing the protection of CBI under the Clean Water Act and 40 CFR 2.203(B). Survey respondents are able to and are requested to mark any claimed confidential responses as CBI. EPA and its contractors will follow EAD's existing procedures to protect data labeled as CBI.

Form Numbers: None.

Respondents/affected entities: All chrome finishing facilities in the U.S. facilities will receive the questionnaire (1,815 facilities) and no more than 20 facilities will be asked to conduct specific wastewater sampling.

Respondent's obligation to respond: Mandatory (Clean Water Act section 308) (citing authority).

Estimated number of respondents: 1,815 (total).

Frequency of response: One-time data collection.

Total estimated respondent burden: 35,858 hours. Burden is defined at 5 CFR 1320.03(b).

Total estimated respondent cost: $1,696,682.83 one-time cost.

Changes in Estimates: This is a new data collection request and is a one-time temporary increase to the agency's burden.

Deborah Nagle,
Director, Office of Science and Technology, Office of Water.

[FR Doc. 2022-24924 Filed 11-15-22; 8:45 am]

BILLING CODE 6560-50-P